Title 3—

The President

Proclamation 8527 of May 28, 2010

African-American Music Appreciation Month, 2010

By the President of the United States of America

A Proclamation

Music can tell a story, assuage our sorrows, provide blessing and redemption, and express a soul’s sublime and powerful beauty. It inspires us daily, giving voice to the human spirit. For many, including the African-American community, music unites individuals through a shared heritage. During African-American Music Appreciation Month, we celebrate the extraordinary legacy of African-American singers, composers, and musicians, as well as their indelible contributions to our Nation and our world.

Throughout our history, African-American music has conveyed the hopes and hardships of a people who have struggled, persevered and overcome. Through centuries of injustice, music comforted slaves, fueled a cultural renaissance, and sustained a movement for equality. Today, from the shores of Africa and the islands of the Caribbean to the jazz clubs of New Orleans and the music halls of Detroit, African-American music reflects the rich sounds of many experiences, cultures, and locales.

African-American musicians have created and expanded a variety of musical genres, synthesizing diverse artistic traditions into a distinctive soundscape. The soulful strains of gospel, the harmonic and improvisational innovations of jazz, the simple truth of the blues, the rhythms of rock and roll, and the urban themes of hip-hop all blend into a refrain of song and narrative that traces our Nation’s history.

These quintessentially American styles of music have helped provide a common soundtrack for people of diverse cultures and backgrounds, and have joined Americans together not just on the dance floor, but also in our churches, in our public spaces, and in our homes. This month, we honor the talent and genius of African-American artists who have defined, shaped, and enriched our country through music, and we recommit to sharing their splendid gifts with our children and grandchildren.

NOW, THEREFORE, I, BARACK OBAMA, President of the United States of America, by virtue of the authority vested in me by the Constitution and the laws of the United States, do hereby proclaim June 2010 as African-American Music Appreciation Month. I call upon public officials, educators, and the people of the United States to observe this month with appropriate activities and programs that raise awareness and foster appreciation of African-American music.

IN WITNESS WHEREOF, I have hereunto set my hand this twenty-eighth day of May, in the year of our Lord two thousand ten, and of the Independence of the United States of America the two hundred and thirty-fourth.

[FR Doc. 2010-13660

Filed 6-4-10; 8:45 am]

Billing code 3195-W0-P